DEPARTMENT OF DEFENSE

Department of the Navy

Notice of Intent To Grant Exclusive Patent License; Emerald Coast Technology Group, LLC

AGENCY: Department of the Navy, DoD.

ACTION: Notice.

SUMMARY: The Department of the Navy hereby gives notice of its intent to grant to Emerald Coast Technology Group, LLC, a revocable, non-assignable, exclusive license to practice in the United States, the Government-owned invention described in U.S. Patent No. 6,893,540: HIGH TEMPERATURE PELTIER EFFECT WATER DISTILLER issued May 17, 2005, Navy Case No. 82,363.

DATES: Anyone wishing to object to the grant of this license has fifteen (15) days from the date of this notice to file written objections along with supporting evidence, if any.

ADDRESSES: Written objections are to be filed with Naval Surface Warfare Center Panama City, 110 Vernon Avenue, Code CP0L, Panama City, FL 32407-7001.

FOR FURTHER INFORMATION CONTACT: Mr. James Shepherd, Patent Counsel, Naval Surface Warfare Center Panama City, 110 Vernon Avenue, Panama City, FL 32407-7001, telephone james.t.shepherd@navy.mil.

(Authority: 35 U.S.C. 207, 37 CFR Part 404)

Dated: December 19, 2006.
M. A. Harvison,
Lieutenant Commander, Judge Advocate General's Corps, U.S. Navy, Federal Register Liaison Officer.

[FR Doc. 07-115 Filed 1-12-07; 8:45 am]

BILLING CODE 3810-FF-M